DEPARTMENT OF HEALTH AND HUMAN SERVICES

Food and Drug Administration

Food Safety Risk Analysis Clearinghouse; Data Quality Objectives; Public Meeting

AGENCY: Food and Drug Administration, HHS.

ACTION: Notice of public meeting.

SUMMARY: The Food and Drug Administration (FDA) is announcing a public meeting cosponsored by the interagency Risk Assessment Consortium (RAC) and the Joint Institute for Food Safety and Applied Nutrition (JIFSAN). The purpose of this public meeting is to encourage discussion and gain input from the public and professionals on data quality issues as they relate to the Food Safety Risk Analysis Clearinghouse (Clearinghouse).

Date and Time: The public meeting will be held on December 5, 2000, 6:30 p.m. to 8:30 p.m.

Location: The public meeting will be held at the Marriott Crystal Gateway Hotel, Grand Ballroom Salons F and G, 1700 Jefferson Davis Hwy., Arlington, VA 22202.

Contact: Wesley R. Long, Center for Food Safety and Applied Nutrition (HFS-6), Food and Drug Administration, 200 C St. SW., Washington, DC 20204, 202-205-4024, FAX 301-935-0149, or email: wlong@cfsan.fda.gov.

Registration: None required.

SUPPLEMENTARY INFORMATION: Risk assessment generally characterizes the nature and magnitude of the risks associated with hazards to human health. A risk assessment provides an opportunity to organize scientific information and helps to clarify the necessary assumptions and degree of scientific certainty of the data used in the risk assessment. Risk assessments require specific information on the hazard and on the exposed populations to provide meaningful information to public health officials; a risk assessment may be considered in the development of risk-management decisions. Although data quality objectives have been developed for assessments of chemical risk, quality objectives for data addressing foodborne microbial pathogens are far less developed.

RAC, which includes members from Federal agencies that have responsibilities for food safety risk analysis, was established under the President's Food Safety Initiative to advance the science of food safety risk assessment and to assist agencies in fulfilling their specific food safety regulatory mandates. The RAC also advises the Clearinghouse, an Internet based resource of food safety risk data and risk assessments.

The Clearinghouse has been developed by JIFSAN, which is a major component of the FDA food safety program's integration with academic institutions to create intellectual partnerships. JIFSAN includes research and outreach components from the Center for Food Safety and Applied Nutrition, the Center for Veterinary Medicine, the University of Maryland (UMD), the Virginia-Maryland Regional College of Veterinary Medicine at UMD, and others. JIFSAN provides a neutral environment in which experts from industry, consumer and trade groups, international organizations, government, and academia can pool their resources and ideas to provide the scientific base for the development of sound public health policy.

Consistent with the goals of RAC and JIFSAN, an open public meeting will be held on data quality issues. The RAC and JIFSAN are seeking input to further the ability of the Clearinghouse to serve as a reliable data resource for use by researchers, industry, and international, Federal and State agencies. The main topic at this meeting will be data quality for microbiological and antimicrobial risk analyses. The draft agenda includes brief presentations on the RAC and the Clearinghouse followed by speakers from the Society of Risk Analysis (SRA) and international organizations. Public comment and discussion will follow the presentations.

This public meeting is being held in conjunction with the annual SRA meeting to leverage access by the RAC to an audience of risk analysis professionals. The meeting is also open to the public, and opportunity for public comment will be provided.

More information about the meeting site is available on the Internet at http://www.sra.org. The meeting agenda and summary will be posted at http://www.foodriskclearinghouse.umd.edu. The agenda posted on this Internet site will identify the specific time set aside for public comment.

Dated: November 22, 2000.
Margaret M. Dotzel,
Associate Commissioner for Policy.

[FR Doc. 00-30449 Filed 11-24-00; 2:36 pm]

BILLING CODE 4160-01-F